DEPARTMENT OF COMMERCE

International Trade Administration

[A-580-885]

Phosphor Copper From the Republic of Korea: Final Results of Antidumping Duty Administrative Review; 2016-2018

AGENCY: Enforcement and Compliance, International Trade Administration, Department of Commerce.

SUMMARY: The Department of Commerce (Commerce) determines that Bongsan Co., Ltd. (Bongsan) did not make U.S. sales of phosphor copper from the Republic of Korea (Korea) below normal value during the period of review (POR), October 14, 2016 through March 31, 2018.

DATES: Applicable December 19, 2019.

FOR FURTHER INFORMATION CONTACT: Cindy Robinson, AD/CVD Operations, Office III, Enforcement and Compliance, International Trade Administration, U.S. Department of Commerce, 1401 Constitution Avenue NW, Washington, DC 20230; telephone: (202) 482-3797.

SUPPLEMENTARY INFORMATION:

Background

Commerce published the Preliminary Results on June 17, 2019.¹ For a history of events that occurred since the Preliminary Results, see the Issues and Decision Memorandum.²

¹ See Phosphor Copper from the Republic of Korea: Preliminary Results of Antidumping Duty Administrative Review; 2016-2018, 84 FR 28009 (June 17, 2019) (Preliminary Results), and accompanying Preliminary Decision Memorandum.

² See Memorandum, “Phosphor Copper from the Republic of Korea: Issues and Decision Memorandum for the Final Results of Antidumping Duty administrative Review; 2016-2018,” dated concurrently with, and hereby adopted by, this notice (Issues and Decision Memorandum).

On August 13, 2019, Commerce postponed the final results of this review until December 13, 2019.³ On September 24, 2019, Commerce issued post preliminary results of the particular market situation and pricing agreement alleged by the petitioner.⁴

³ See Memorandum, “Phosphor Copper from the Republic of Korea: Extension of Time Limit for the Final Results of Antidumping Duty Administrative Review; 2016-2018,” dated August 13, 2019.

⁴ See Memorandum, “Post Preliminary Analysis of Particular Market Situation Allegation and Pricing Agreement Allegation in the Antidumping Duty Administrative Review: Phosphor Copper from the Republic of Korea; 2016-2018,” dated September 24, 2019.

Scope of the Order ⁵

⁵ See Phosphor Copper from the Republic of Korea: Antidumping Duty Order, 82 FR 18893 (April 24, 2017) (Order).

The product covered by this order is phosphor copper from Korea. For a complete description of the scope of this order, see the Issues and Decision Memorandum.

Analysis of Comments Received

All issues raised in the case and rebuttal briefs by parties are addressed in the Issues and Decision Memorandum and are identified in the appendix to this notice. The Issues and Decision Memorandum is a public document and is on-file electronically via Enforcement and Compliance's Antidumping and Countervailing Duty Centralized Electronic Service System (ACCESS). ACCESS is available to registered users at https://access.trade.gov, and to all parties in the Central Records Unit, Room B8024 of the main Commerce building. In addition, a complete version of the Issues and Decision Memorandum can be accessed at http://enforcement.trade.gov/frn/index.html. The signed and electronic versions of the Issues and Decision Memorandum are identical in content.

Changes Since the Preliminary Results

Based on a review of the record and comments received from interested parties regarding our Preliminary Results, we have revised the reported financial expense ratio to the preliminary margin calculations for Bongsan.⁶

⁶ See Memorandum, “Final Results in the Antidumping Duty Administrative Review of Phosphor Copper from the Republic of Korea (2016-2018): Sales and Cost of Production Calculation Memorandum for Bongsan Co., Ltd.,” dated concurrently with this notice.

Final Results

As a result of this review, Commerce determines the following weighted-average dumping margin for Bongsan for the period October 14, 2016 through March 31, 2018:

Exporter or producer | Weighted- average dumping margin (percent)
Bongsan Co., Ltd | 0.00

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. For Bongsan, we will calculate importer-specific assessment rates on the basis of the ratio of the total amount of dumping calculated for each importer's examined sales and the total entered value of those sales in accordance with 19 CFR 351.212(b)(1). When either Bongsan's weighted-average dumping margin is zero or de minimis (i.e., less than 0.5 percent), or an importer-specific assessment rate is zero or de minimis, we will instruct CBP to liquidate the appropriate entries without regard to antidumping duties.

For entries of subject merchandise during the POR produced by Bongsan for which it did not know its merchandise was destined for the United States, we will instruct CBP to liquidate such entries at the all-others rate if there is no rate for the intermediate company(ies) involved in the transaction.

We intend to issue liquidation instructions to CBP 15 days after publication of the final results of this review.

Cash Deposit Requirements

The following cash deposit requirements will be effective upon publication of the notice of final results of administrative review for all shipments of subject merchandise entered, or withdrawn from warehouse, for consumption on or after the date of publication, as provided by section 751(a)(2) of the Act: (1) The cash deposit rate for Bongsan will be equal to the weighted-average dumping margin established in the final results of this administrative review, except if that rate is de minimis, in which situation the cash deposit rate will be zero; (2) for merchandise exported by a producer or exporter not covered in this administrative review but covered in a prior segment of the proceeding, the cash deposit rate will continue to be the company-specific rate published for the most recently completed segment of this proceeding; (3) if the exporter is not a firm covered in this review, a prior review, or the original less-than-fair-value (LTFV) investigation, but the producer is, then the cash deposit rate will be the rate established for the most recently completed segment of this proceeding for the producer of the subject merchandise; and (4) the cash deposit rate for all other producers or exporters will continue to be 8.43 percent, the all-others rate established in the LTFV investigation.

These cash deposit requirements, when imposed, shall remain in effect until further notice.

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i) of the Act and 19 CFR 351.221(b)(5).

Dated: December 13, 2019.
Jeffrey I. Kessler,
Assistant Secretary for Enforcement and Compliance.

Appendix

List of Topics Discussed in the Issues and Decision Memorandum

I. Summary

II. Background

III. Scope of the Order

IV. Particular Market Situation and Pricing Agreement Allegations

V. Changes Made Since the Preliminary Results

VI. Analysis of Comments

Comment 1: Adverse Facts Available (AFA) to Bongsan

Comment 2: Cost-Based Particular Market Situation (PMS)

Comment 3: Bongsan's Costs on a Quarterly-Average Basis

Comment 4: Bongsan's Financial Expense Ratio

VII. Recommendation

[FR Doc. 2019-27407 Filed 12-18-19; 8:45 am]

BILLING CODE 3510-DS-P